DEPARTMENT OF COMMERCE

International Trade Administration

The President's Export Council: Meeting of the President's Export Council; Sunshine Act

AGENCY: International Trade Administration, U.S. Department of Commerce.

ACTION: Notice of an open meeting via teleconference.

SUMMARY: The President's Export Council will hold a meeting via teleconference to deliberate a draft recommendation to the President regarding Asia-Pacific Economic Cooperation.

Date: November 1, 2006.

Time: 2 p.m. (EST).

FOR THE CONFERENCE CALL-IN NUMBER AND FURTHER INFORMATION, CONTACT: The President's Export Council Executive Secretariat, Room 4043, Washington, DC 20230 (Phone: 202-482-1124), or visit the PEC Web site, http://www.export.gov/pec.

Dated: October 6, 2006.
J. Marc Chittum,
Staff Director and Executive Secretary, President's Export Council.

[FR Doc. 06-8634 Filed 10-6-06; 2:04 pm]

BILLING CODE 3510-DR-P